NUCLEAR REGULATORY COMMISSION

Consolidated Guidance About Materials Licenses: Guidance for Agreement State Licensees About NRC Form 241 “Report of Proposed Activities in Non-Agreement States, Areas of Exclusive Federal Jurisdiction, or Offshore Water” and Guidance for NRC Licensees Proposing to Work in Agreement State Jurisdiction (Reciprocity)

AGENCY: U. S. Nuclear Regulatory Commission (NRC).

ACTION: Notice of Availability and Request for Comments.

SUMMARY: The NRC is announcing the availability of, and requesting comments on, draft NUREG-1556, Volume19, “Consolidated Guidance About Materials Licenses: Guidance For Agreement State Licensees About NRC Form 241 ‘Report of Proposed Activities in Non-Agreement States, Areas of Exclusive Federal Jurisdiction, or Offshore Waters’ and Guidance For NRC Licensees Proposing to Work in Agreement State Jurisdiction (Reciprocity),” dated July 2000.

The NRC is using Business Process Redesign techniques to redesign its materials licensing process, as described in NUREG-1539, “Methodology and Findings of the NRC's Materials Licensing Process Redesign.” A critical element of the new process is consolidating and updating numerous guidance documents into a NUREG-series of reports. This draft NUREG report is the nineteenth guidance developed for the new process.

This guidance is intended for use by Agreement State licensees, NRC licensees, and NRC staff and will also be available to Agreement States. This document also provides contact organization guidance to NRC licensees who wish to work in Agreement States.

This document combines and updates the guidance for applicants and licensees previously found in NRC Inspection Manual Chapter 1220, “Processing of ‘Report of Proposed Activities in Non-Agreement States, Areas of Exclusive Federal Jurisdiction, and Offshore Waters,’ and Inspection of Agreement State Licensees Operating Under 10 CFR 150.20'; NRC Information Notice No. 90-15: “Reciprocity: Notification Of Agreement State Radiation Control Directors Before Beginning Work In Agreement States”; All Agreement States Letter 96-022, Policy and Guidance Directives (P&GD) 83-19 “Jurisdiction at Reactor Facilities” and 84-17 “Jurisdiction 10 CFR Parts 30, 40 and 70 Licenses at Reactor Facilities.” In addition, this draft report also contains pertinent information found in Technical Assistance Requests and Information Notices, as listed in Appendix F of the NUREG.

This draft report is strictly for public comment and is not for use in preparing or reviewing notifications of proposed use in NRC jurisdiction until it is published in final form. It is being distributed for comment to encourage public participation in its development. NRC is requesting comments on the information provided about the notification of proposed use in NRC jurisdiction. Please submit comments within 30 days of the draft report's publication. Comments received after that time will be considered if practicable.

DATES: The comment period ends September 13, 2000. Comments received after that time will be considered if practicable.

ADDRESSES: Submit written comments to: Chief, Rules and Directives Branch, Division of Administrative Services, Office of Administration, U. S. Nuclear Regulatory Commission, Washington, D.C. 20555-0001. Hand-deliver comments to 11545 Rockville Pike, Rockville, Maryland, between 7:15 a.m. and 4:30 p.m. on Federal workdays. Comments may also be submitted through the Internet by addressing electronic mail to dlm1@nrc.gov.

Those considering public comment may request a free single copy of draft NUREG-1556, Volume 19, by writing to the U.S. Nuclear Regulatory Commission, ATTN: Mrs. Carrie Brown, Mail Stop TWFN 9-C24, Washington, D.C. 20555-0001. Alternatively, submit requests through the Internet by addressing electronic mail to cxb@nrc.gov. A copy of draft NUREG-1556, Volume 19, is also available for inspection and/or copying for a fee in the NRC Public Document Room, 2120 L Street, NW. (Lower Level), Washington, D.C. 20555-0001.

The Presidential Memorandum dated June 1, 1998, entitled, “Plain Language in Government Writing,” directed that the Federal government's writing be in plain language. The NRC requests comments on this licensing guidance NUREG specifically with respect to the clarity and effectiveness of the language used. Comments should be sent to the address listed above.

FOR FURTHER INFORMATION, CONTACT: Mrs. Carrie Brown, TWFN 9-F-C24, Division of Industrial and Medical Nuclear Safety, Office of Nuclear Material Safety and Safeguards, U.S. Nuclear Regulatory Commission, Washington, D.C. 20555, telephone (301) 415-8092; electronic mail address: cxb@nrc.gov.

Electronic Access

Draft NUREG-1556, Vol. 19 is available electronically by visiting the NRC's Home Page (http://www.nrc.gov/nrc/nucmat.html).

Dated at Rockville, Maryland, this 7th day of August, 2000.
For the Nuclear Regulatory Commission.
Patricia K. Holahan,
Chief, Rulemaking and Guidance Branch, Division of Industrial and Medical Nuclear Safety, NMSS.

[FR Doc. 00-20576 Filed 8-11-00; 8:45 am]

BILLING CODE 7590-01-P